DEPARTMENT OF COMMERCE

National Oceanic and Atmospheric Administration

Science and Technology for America's Oceans: A Decadal Vision

AGENCY: Oceanic and Atmospheric Research (OAR), National Oceanic and Atmospheric Administration (NOAA), Department of Commerce (DOC).

ACTION: Notice of public comments.

SUMMARY: The Office of Oceanic and Atmospheric Research on behalf of the National Science and Technology Council; Committee on Environment; Subcommittee on Ocean Science and Technology (SOST) is requesting input on the content of a report, Science and Technology for America's Oceans: A Decadal Vision. The SOST is chartered under the National Science and Technology Council to advise and assist on national issues related to ocean science and technology. The SOST contributes to the goals for Federal ocean science and technology, including identifying priorities and developing coordinated interagency strategies. Science and Technology for America's Oceans: A Decadal Vision identifies pressing research needs and areas of opportunity within the ocean S&T enterprise for the coming decade, 2018-2028. The aim of this document is not to prescribe policies but to provide guidance for U.S. Federal agencies and non-federal sectors to align their resources and areas of expertise, and further build the scientific and technological foundation that will improve our knowledge and stewardship of the ocean, address issues of national and global importance, and inform decision-making for the coming decade. This notice solicits relevant public input on the draft report. The public input provided in response to this notice will inform SOST as they develop the final report.

DATES: Comments must be submitted on or before August 27, 2018.

ADDRESSES: You may submit comments by email to oceandecadalvision@OSTP.eop.gov. Please include “Science and Technology for America's Oceans” in the subject line of the message.

Instructions: The report is available for download at: http://www.noaa.gov/stories/advancing-vision-of-science-and-technology-for-americas-oceans. Response to this Notice of Public Comments is voluntary. Clearly indicate which section and page number, if applicable, submitted comments pertain to. All submissions must be in English. Please clearly label submissions as “Science and Technology for America's Oceans: A Decadal Vision.” When the final report is issued, relevant comments and the commenters' names, along with the authors' responses, may become part of the public record and be made available to view online. NOAA therefore requests that no business proprietary information, copyrighted information, or personally identifiable information be submitted in response to this Notice of Public Comments. Please note that the U.S. Government will not pay for response preparation, or for the use of any information contained in the response.

FOR FURTHER INFORMATION CONTACT: Stacy Aguilera-Peterson, Office of Science and Technology Policy, (202) 456-6066, or Stacy.E.Aguilera-Peterson@ostp.eop.gov.

SUPPLEMENTARY INFORMATION: The report describes:

• Five high-priority goals to advance ocean science and technology (S&T) in the coming decade;

• S&T objectives, identified as key areas to advance the U.S. Ocean S&T enterprise;

• Specific research and development (R&D) priorities to achieve each objective; and

• Areas of immediate ocean research opportunities and cross-cutting topics relevant to each of the five goals.

Dated: June 22, 2018.
David Holst,
Chief Financial/Administrative Officer, Office of Oceanic and Atmospheric Research, National Oceanic and Atmospheric Administration.

[FR Doc. 2018-13926 Filed 6-27-18; 8:45 am]

BILLING CODE 3510-KA-P